DEPARTMENT OF COMMERCE

International Trade Administration

[Application No. 84-21A12]

Export Trade Certificate of Review

ACTION: Notice of Issuance of an amended Export Trade Certificate of Review to Northwest Fruit Exporters (“NFE”) (Application #84-21A12).

SUMMARY: The U.S. Department of Commerce issued an amended Export Trade Certificate of Review to Northwest Fruit Exporters on August 18, 2010. The Certificate has been amended eleven times. The previous amendment was issued to NFE on September 16, 2009, and a notice of its issuance was published in the Federal Register on September 23, 2009 (74 FR 48250). The original Certificate for NFE was issued on June 11, 1984, and a notice of its issuance was published in the Federal Register on June 14, 1984 (74 FR 48520).

FOR FURTHER INFORMATION CONTACT: Joseph E. Flynn, Director, Office of Competition and Economic Analysis, International Trade Administration, by telephone at (202) 482-5131 (this is not a toll-free number) or e-mail at etca@trade.gov.

SUPPLEMENTARY INFORMATION: Title III of the Export Trading Company Act of 1982 (15 U.S.C. 4001-21) authorizes the Secretary of Commerce to issue Export Trade Certificates of Review. The regulations implementing Title III are found at 15 CFR part 325 (2010).

The Office of Competition and Economic Analysis (“OCEA”) is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

NFE's Export Trade Certificate of Review has Been Amended To

1. Add the following new Members of the Certificate within the meaning of section 325.2(1) of the Regulations (15 CFR 325.2(1)): Hood River Cherry Company (Hood River, OR), Ice Lakes LLS (E. Wenatchee, WA), and JackAss Mt. Ranch (Pasco, WA) and;

2. Delete the following Members from NFE's Certificate: Poirier Warehouse (Pateros, WA) and Witte Orchards (E. Wenatchee, WA).

Dated: August 19, 2010.
Joseph E. Flynn,
Director, Office of Competition and Economic Analysis.

[FR Doc. 2010-20971 Filed 8-23-10; 8:45 am]

BILLING CODE 3510-DR-P